ENVIRONMENTAL PROTECTION AGENCY

[ER-FRL-8583-2]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at 202-564-7167. An explanation of the ratings assigned to draft environmental impact statements (EISs) was published in FR dated April 11, 2008 (73 FR 19833).

Draft EISs

EIS No. 20080134, ERP No. D-NPS-F65070-MI, Sleeping Bear Dunes National Lakeshore, General Management Plan and Wilderness Study, Implementation, Benzie and Leelanau Counties, MI.

Summary: EPA does not object to the proposed action. Rating LO.

EIS No. 20080083, ERP No. DS-AFS-D65039-WV, Lower Williams Project Area (LWPA), Additional Information, Proposed to Perform Vegetation Management and Wildlife Habitat Improvements, Implementation, Gauley Ranger District, Monongahela National Forest, Webster County, WV.

Summary: EPA expressed environmental concerns about potential adverse impacts to both aquatic and terrestrial habitat. The final EIS should include mitigation measures to minimize impacts to streams and aquatic habitat resources. Rating EC2.

Final EISs

EIS No. 20080177, ERP No. F-USN-K11119-HI, Hawaii Range Complex (HRC) Project, Preferred Alternative is 3, To Support and Maintain Navy Pacific Fleet Training, and Research, Development, Test, and Evaluation (RDT&E) Operations, Kauai, Honolulu, Maui and Hawaii Counties, HI.

Summary: EPA expressed environmental concerns about impacts to marine resources from mid-frequency active (MFA) sonar use and the deposition of hazardous materials into water resources from munitions and training expenditures.

EIS No. 20080182, ERP No. F-AFS-G65106-NM, Perk-Grindstone Fuel Reduction Project, to Protect Life, Property, and Natural Resources, Village of Ruidoso, Lincoln National Forest, Lincoln County, New Mexico.

Summary: No formal comment letter was sent to the preparing agency.

EIS No. 20080201, ERP No. F-AFS-J65511-SD, Upper Spring Creek Project, Proposes to Implementation Multiple Resource Management Actions, Mystic Ranger District, Black Hills National Forest, Pennington and Custer Counties, SD.

Summary: No formal comment letter was sent to the preparing agency.

Dated: June 24, 2008.
Ken Mittelholtz,
Environmental Protection Specialist, Office of Federal Activities.

[FR Doc. E8-14624 Filed 6-26-08; 8:45 am]

BILLING CODE 6560-50-P